DEPARTMENT OF COMMERCE

National Oceanic and Atmospheric Administration

50 CFR Part 680

[Docket No. 060420106-6106-01; I.D. 041706B]

RIN 0648-AU44

Fisheries of the Exclusive Economic Zone Off Alaska; Bering Sea and Aleutian Islands King and Tanner Crab Fishery Resources; Economic Data Reports

AGENCY: National Marine Fisheries Service (NMFS), National Oceanic and Atmospheric Administration (NOAA), Commerce.

ACTION: Proposed rule; request for comments.

SUMMARY: NMFS issues a proposed rule that would change the economic data report (EDR) submission deadline from May 1 to June 28. This action is necessary to provide adequate time for crab harvesters and processors participating in the Bering Sea and Aleutian Islands Crab Rationalization Program to submit accurate and complete data on an EDR for the previous fishing year and permit enough time for issuance of crab permits for the current year. This action is intended to promote the goals and objectives of the Magnuson-Stevens Fishery Conservation and Management Act (Magnuson-Stevens Act).

DATES: Written comments must be received by May 17, 2006.

ADDRESSES: Send comments to Sue Salveson, Assistant Regional Administrator, Sustainable Fisheries Division, Alaska Region, NMFS, Attn: Records Officer. Comments may be submitted by:

• Mail: P.O. Box 21668, Juneau, AK 99802.

• Hand delivery to the Federal Building: 709 West 9th Street, Room 420A, Juneau, AK.

• Fax: 907-586-7557.

• E-mail: 0648-AU44-PR-CRABEDR@noaa.gov. Include in the subject line of the e-mail the following document identifier: IERS. E-mail comments, with or without attachments, are limited to 5 megabytes.

• Webform at the Federal eRulemaking Portal: http://www.regulations.gov. Follow the instructions at that site for submitting comments.

Copies of the Regulatory Impact Review/Initial Regulatory Flexibility Analysis (RIR/IRFA) prepared for this action are available from NMFS Alaska Region at the above address, from the NMFS Alaska Region Web site at http://www.fakr.noaa.gov/index/analyses/analyses.asp, or by calling the Alaska Region, NMFS, at 907-586-7228.

Written comments regarding the burden-hour estimates or other aspects of the collection-of-information requirements contained in this proposed rule may be submitted to NMFS, Alaska Region at the above address, and by e-mail to David_Rostker@omb.eop.gov, or fax to 202-395-7285.

FOR FURTHER INFORMATION CONTACT: Patsy A. Bearden, 907-586-7008 or patsy.bearden@noaa.gov.

SUPPLEMENTARY INFORMATION:

Background

The Crab Rationalization Program (CR Program) includes a comprehensive economic data collection program to aid the North Pacific Fishery Management Council and NMFS assess the success of the CR Program and develop amendments to the CR Program. An EDR contains cost, revenue, ownership, and employment data. These data are collected annually from the crab harvesting and processing sectors, including owners and lessees of catcher vessels, catcher/processors, and owners and operators of shoreside and floating processors. The data are used to study the economic impacts of the CR Program on harvesters, processors, and communities. Data submission is mandatory.

An EDR is required for historical data and annual data for each of four categories of participant in the CR fisheries: catcher vessel, catcher/processor, stationary floating crab processor, and shoreside crab processor. This rule would apply only to the annual EDRs.

This action would not add reporting, recordkeeping, and other compliance requirements. The number of small-entity respondents is anticipated to decrease dramatically compared with the current fishery. This decrease is due to the consolidation of BSAI crab operations from initial quota allocation, fleet reduction of 25 vessels in the BSAI crab buyback program, and from the opportunity to form cooperatives. Most of the EDR historical data were collected during this first year of the CR Program as a one-time submission. After the submission of historical data, small entities continuing to participate in the crab fisheries are required to submit an annual EDR. The number of crab harvesting entities that continue to meet SBA criteria for being small entities is anticipated to be greatly reduced over the pre-quota fisheries.

Need for Action

NMFS originally chose May 1 as the EDR submission deadline because NMFS estimated that data records would be readily available after the April 15 income tax filing deadline. However, several individuals have reported that a May 1 deadline for annual EDRs does not allow enough time for preparers to match EDR data to comprehensive and accurate financial documentation, such as financial statements and tax returns. When preparers request tax extensions, tax returns and statements are seldom complete by May 1. Even if taxes were submitted by April 15, EDR preparers have only two weeks to gather tax forms from preparers, complete the EDRs, and file them by May 1. This short period leaves little time to complete EDR data entry fields and could adversely affect the quality of data reported on EDRs.

Providing additional time to file EDRs should not delay issuance of annual quota share permits. Timely submission of a completed annual EDR is a condition to receiving an annual quota share permit from the NMFS Restricted Access Management Program office (RAM). The Pacific States Marine Fisheries Commission reports names of those with completed EDRs filings to RAM shortly after the EDR filing deadline. RAM will issue annual quota share permits approximately one month after the EDR filing deadline.

Classification

NMFS has determined that the proposed rule is consistent with the Magnuson-Stevens Act and other applicable laws. This rule has been determined to be not significant for the purposes of Executive Order 12866.

NMFS prepared an initial regulatory flexibility analysis (IRFA) as required by section 603 of the Regulatory Flexibility Act. The IRFA describes the economic impact this proposed rule, if adopted, would have on small entities. A description of the action, why it is being considered, and the legal basis for this action are contained at the beginning of the preamble and in the SUMMARY section of this document. A copy of the IRFA is available from NMFS (see ADDRESSES). A summary of the analysis follows:

The EDRs require data from fishing operations that are small entities as identified by the Small Business Administration (SBA). This action would apply to 311 entities, consisting of 275 catcher vessels, 12 catcher/processors, 20 shoreside processors, 4 stationary floating crab processors. This action would also apply to 6 Western Alaska Community Development Quota (CDQ) groups. Approximately 238 small entities own crab harvesting vessels or crab catcher/processors. Eight processors qualify as small entities. Each of the six CDQ groups is a small entity.

This action would not add reporting, recordkeeping, and other compliance requirements. The number of small-entity respondents is anticipated to decrease dramatically compared with the current fishery. This decrease is due to the consolidation of BSAI crab operations from initial quota allocation, fleet reduction of 25 vessels in the BSAI crab buyback program, and from the opportunity to form cooperatives. Most of the EDR historical data were collected during this first year of the CR Program as a one-time submission. After the submission of historical data, small entities continuing to participate in the crab fisheries are required to submit an annual EDR. The number of crab harvesting entities that continue to meet SBA criteria for being small entities is anticipated to be greatly reduced over the pre-quota fisheries.

This rule contains a collection-of-information requirement subject to the Paperwork Reduction Act (PRA) that has been approved by OMB under Control Number 0648-0518. Public reporting burden per individual response is estimated to average 7.5 hours for annual catcher vessel EDR; 12.5 hours for annual catcher/processor EDR; 10 hours for annual stationary floating crab processor EDR; and 10 hours for annual shoreside processor EDR. Response time estimates include the time for reviewing instructions, searching existing data sources, gathering and maintaining the data needed, and completing and reviewing the collection of information. Send comments regarding this burden estimate, or any other aspect of this data collection, including suggestions for reducing the burden, to NMFS (see ADDRESSES) and by e-mail to David_Rostker@omb.eop.gov, or fax to 202-395-7285.

Notwithstanding any other provision of the law, no person is required to respond to, nor shall any person be subject to a penalty for failure to comply with, a collection of information subject to the requirements of the PRA, unless that collection of information displays a currently valid OMB control number.

This rule does not duplicate, overlap, or conflict with other Federal regulations.

This action does not have any adverse impacts on regulated small entities.

List of Subjects in 50 CFR Part 680

Alaska, Fisheries, Reporting and recordkeeping requirements.

Dated: April 26, 2006.
William T. Hogarth
Assistant Administrator for Fisheries, National Marine Fisheries Service.

For the reasons set out in the preamble, 50 CFR part 680 is proposed to be amended as follows:

PART 680—SHELLFISH FISHERIES OF THE EXCLUSIVE ECONOMIC ZONE OFF ALASKA

1. The authority citation for part 680 continues to read as follows:

Authority: Authority: 16 U.S.C. 1862.

§ 680.6 [Amended]

2. In the table below, for each of the paragraphs shown in the “Location” column, remove the phrase indicated in the “Remove” column and replace it with the phrase indicated in the “Add” column for the number of times indicated in the “Frequency per paragraph” column.

Location | Remove | Add | Frequency per paragraph
§ 680.6 paragraphs (b)(1), (d)(1), (f)(1), and (h)(1) | May 1 | June 28 | 2

[FR Doc. E6-6614 Filed 5-1-06; 8:45 am]

BILLING CODE 3510-22-S